NATIONAL AERONAUTICS AND SPACE ADMINISTRATION

[Notice (03-061)]

Government-Owned Inventions, Available for Licensing

ACTION: Notice of availability of inventions for licensing.

SUMMARY: The inventions listed below are assigned to the National Aeronautics and Space Administration, have been filed in the United States Patent and Trademark Office, and are available for licensing.

DATES: June 3, 2003.

FOR FURTHER INFORMATION CONTACT: Kent N. Stone, Patent Counsel, Glenn Research Center at Lewis Field, Mail Code 500-118, Cleveland, OH 44135; telephone (216) 433-8855, fax (216) 433-6790.

NASA Case No. LEW-17129-1: Improved Non-Contacting Finger Seal;

NASA Case No. LEW-17175-1: High Speed Electromechanical Shutter For Imaging Spectrographs;

NASA Case No. LEW-17187-1: Method For Growth Of Bulk Crystals By Vapor Phase Epitaxy;

NASA Case No. LEW-17293-1: System For Controlling A Magnetically Levitated Rotor;

NASA Case No. LEW-17300-1: Method For Fabrication Of Improved Gas Sensors Using SiC Semiconductors.

Dated: May 28, 2003.
Robert M. Stephens,
Deputy General Counsel.

[FR Doc. 03-13912 Filed 6-2-03; 8:45 am]

BILLING CODE 7510-01-P